OFFICE OF PERSONNEL MANAGEMENT

Hispanic Council on Federal Employment

AGENCY: Office of Personnel Management.

ACTION: Scheduling of council meeting.

SUMMARY: The Hispanic Council on Federal Employment will hold its second meeting on April 15, 2011, at the time and location shown below. The Council is an advisory committee composed of representatives from Hispanic organizations and senior government officials. Along with its other responsibilities, the Council shall advise the Director of the Office of Personnel Management on matters involving the recruitment, hiring, and advancement of Hispanics in the Federal workforce. The Council is co-chaired by the Chief of Staff of the Office of Personnel Management and the Assistant Secretary for Human Resources and Administration at the Department of Veterans Affairs.

The meeting is open to the public. Please contact the Office of Personnel Management at the address shown below if you wish to present material to the Council at the meeting. The manner and time prescribed for presentations may be limited, depending upon the number of parties that express interest in presenting information.

DATES: April 15, 2011 from 2-4 p.m.

Location: U.S. Office of Personnel Management, Room 1416, 1st Floor, Theodore Roosevelt Building, 1900 E St., NW., Washington, DC 20415.

FOR FURTHER INFORMATION CONTACT: Veronica E. Villalobos, Director for the Office of Diversity and Inclusion, Office of Personnel Management, 1900 E St., NW., Suite 5305, Washington, DC 20415. Phone (202) 606-2984 FAX (202) 606-2183 or e-mail at Edgar.Gonzalez@opm.gov.

U.S. Office of Personnel Management.
John Berry,
Director.

[FR Doc. 2011-7830 Filed 3-31-11; 8:45 am]

BILLING CODE 6325-46-P